DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals (ROP); Calling for Comments on the Committee's disposition of the proposals and these Comments are published in the Report on Comments (ROC); having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline stated in the ROC. Certified motions will then be posted on the NFPA website. Documents that receive notice of proper Amending Motions (Certified Amending Motions) will be presented for action at the Annual Association Technical Meeting. Documents that receive no motions will be forwarded directly to the Standards Council for action on issuance.

For more information on these new rules and for up-to-date information on schedules and deadlines for processing NFPA Documents, check the NFPA Web site at http://www.nfpa.org or contact NFPA Codes and Standards Administration.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

When a Technical Committee begins the development of a new or revised NFPA code or standard, it enters one of two Revision Cycles available each year. The Revision Cycle begins with the Call for Proposals, that is, a public notice asking for any interested persons to submit specific written proposals for developing or revising the Document. The Call for Proposals is published in a variety of publications. Interested parties have approximately twenty weeks to respond to the Call for Proposals.

Following the Call for Proposals period, the Technical Committee holds a meeting to consider and accept, reject or revise, in whole or in part, all the submitted Proposals. The committee may also develop its own Proposals. A document known as the Report on Proposals, or ROP, is prepared containing all the Public Proposals, the Technical Committees' action and each Proposal, as well as all Committee-generated Proposals. The ROP is then submitted for the approval of the Technical Committee by a formal written ballot. If the ROP does not receive approval by a two-thirds vote calculated in accordance with NFPA rules, the Report is returned to the committee for further consideration and is not published. If the necessary approval is received, the ROP is published in a compilation of Reports on Proposals issued by NFPA twice yearly for public review and comment, and the process continues to the next step.

The Reports on Proposals are sent automatically free of charge to all who submitted proposals and each respective committee member, as well as anyone else who requests a copy. All ROP's are also available for free downloading at http://www.nfpa.org.

Once the ROP becomes available, there is a 60-day comment period during which anyone may submit a Public Comment on the proposed changes in the ROP. The committee then reconvenes at the end of the comment period and acts on all Comments.

As before, a two-thirds approval vote by written ballot of the eligible members of the committee is required for approval of actions on the Comments. All of this information is complied into a second Report, called the Report on Comments (ROC), which, like the ROP, is published and made available for public review for a seven-week period.

The process of public input and review does not end with the publication of the ROP and ROC. Following the completion of the Proposal and Comment periods, there is yet a further opportunity for debate and discussion through the Technical Report Sessions that take place at the NFPA Annual Meeting.

The Technical Report Session provides an opportunity for the final Technical Committee Report (i.e., the ROP and ROC) on each proposed new or revised code or standard to be presented to the NFPA membership for the debate and consideration of motions to amend the Report. Before making an allowable motion at a Technical Report Session, the intended maker of the motion must file, in advance of the session, and within the published deadline, a Notice of Intent to Make a Motion. A Motions Committee appointed by the Standards Council then reviews all notices and certifies all amending motions that are proper. Only these Certified Amending Motions, together with certain allowable Follow-Up Motions (that is, motions that have become necessary as a result of previous successful amending motions) will be allowed at the Technical Report Session.

For more information on dates/locations of NFPA Technical Committee meetings and NFPA Annual Technical Report Sessions, check the NFPA Web site at: http://www.nfpa.org/itemDetail.asp?categoryID=822&itemID=22818.

The specific rules for the types of motions that can be made and who can make them are set forth in NFPA's Regulation Governing Committee Projects which should always be consulted by those wishing to bring an issue before the membership at a Technical Report Session.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office or on NFPA's Web site at http://www.nfpa.org.

Each person must include his or her name and address, identify the document and give reasons for the proposal. Proposals received before or by 5 p.m. local time on the closing date indicated would be acted on by the Committee. The NFPA will consider any proposal that it receives on or before the date listed with the code or standard.

Document—edition | Document name | Proposal closing date
NFPA 13—2007 | Standard for the Installation of Sprinkler Systems | 10/5/2007
NFPA 13D—2007 | Standard for the Installation of Sprinkler Systems in One- and Two-Family Dwellings and Manufactured Homes | 10/5/2007
NFPA 13R—2007 | Standard for the Installation of Sprinkler Systems in Residential Occupancies up to and Including Four Stories in Height | 10/5/2007
NFPA 14—2007 | Standard for the Installation of Standpipes and Hose Systems | 5/25/2007
NFPA 24—2007 | Standard for the Installation of Private Fire Service Mains and Their Appurtenances | 10/5/2007
NFPA 52—2006 | Vehicular Fuel Systems Code | 5/25/2007
NFPA 53—2004 | Recommended Practice on Materials, Equipment and Systems Used in Oxygen-Enriched Atmospheres | 5/25/2007
NFPA 55—2005 | Standard for the Storage, Use, and Handling of Compressed Gases and Cryogenic Fluids in Portable and Stationary Containers, Cylinders, and Tanks | 5/25/2007
NFPA 72—2007 | National Fire Alarm Code® | 11/2/2007
NFPA 82—2004 | Standard on Incinerators and Waste and Linen Handling Systems and Equipment | 5/25/2007
NFPA 99—2005 | Standard for Health Care Facilities | 11/26/2007
NFPA 99B—2005 | Standard for Hypobaric Facilities | 11/26/2007
NFPA 99C—2005 | Standard on Gas and Vacuum Systems | 11/26/2007
NFPA 101A—2007 | Guide on Alternative Approaches to Life Safety | 11/26/2007
NFPA 150—2007 | Standard on Fire and Life Safety in Animal Housing Facilities | 5/25/2007
NFPA 211-2006 | Standard for Chimneys, Fireplaces, Vents, and Solid Fuel-Burning Appliances | 5/25/2007
NFPA 225—2005 | Model Manufactured Home Installation Standard | 5/25/2007
NFPA 255—2006 | Standard Method of Test of Surface Burning Characteristics of Building Materials | 11/26/2007
NFPA 291—2007 | Recommended Practice for Fire Flow Testing and Marking of Hydrants | 10/5/2007
NFPA 501—2005 | Standard on Manufactured Housing | 5/25/2007
NFPA 501A—2005 | Standard for Fire Safety Criteria for Manufactured Home Installations, Sites, and Communities | 5/25/2007
NFPA 750—2006 | Standard on Water Mist Fire Protection Systems | 5/30/2008
NFPA 850—2005 | Recommended Practice for Fire Protection for Electric Generating Plants and High Voltage Direct Current Converter Stations | 5/25/2007
NFPA 851—2005 | Recommended Practice for Fire Protection for Hydroelectric Generating Plants | 5/25/2007
NFPA 914—2007 | Code for Fire Protection of Historic Structures | 5/25/2007
NFPA 1201—2004 | Standard for Providing Emergency Services to the Public | 11/26/2007
NFPA 1250—2004 | Recommended Practice in Emergency Service Organization Risk Management | 11/26/2007
NFPA 1670—2004 | Standard on Operations and Training for Technical Search and Rescue Incidents | 5/25/2007
NFPA 1710—2004 | Standard for the Organization and Deployment of Fire Suppression Operations, Emergency Medical Operations, and Special Operations to the Public by Career Fire Departments | 11/26/2007
NFPA 1720—2004 | Standard for the Organization and Deployment of Fire Suppression Operations, Emergency Medical Operations and Special Operations to the Public by Volunteer Fire Departments | 11/26/2007
* P = Proposed NEW drafts are available from NFPA’s Web site— http://www.nfpa.org or may be obtained from NFPA's Codes and Standards Administration, 1 Batterymarch Park, Quincy, MA 02269.

Dated: April 5, 2007.
William Jeffrey,
Director.

[FR Doc. E7-7078 Filed 4-12-07; 8:45 am]

BILLING CODE 3510-13-P